DEPARTMENT OF COMMERCE

National Institute of Standards and Technology

Board of Overseers of the Malcolm Baldrige National Quality Award

AGENCY: National Institute of Standards and Technology, Department of Commerce.

ACTION: Notice of open meeting.

SUMMARY: The Board of Overseers of the Malcolm Baldrige National Quality Award (“Board of Overseers” or “Board”) will meet in open session on Wednesday, June 25, 2025, from 11 a.m. to 4 p.m. eastern time. The purpose of this meeting is for the Board of Overseers to review and discuss the work of the Baldridge Performance Excellence Program to implement improvements to the Malcom Baldrige National Quality Award (“Award”), and to provide recommendations to the Director of the National Institute of Standards and Technology (NIST) as the Board deems necessary. The agenda will include the Baldrige Program Update, Baldrige Foundation Update, Judges Panel Update, Ethics Review, Alliance for Performance Excellence Update, Communities of Excellence Update, and New Business/Public Comment. Details on the agenda are noted in the SUPPLEMENTARY INFORMATION section of this notice.

DATES: The meeting will be held on Wednesday, June 25, 2025, from 11 a.m. eastern time until 4 p.m. eastern time. The meeting will be open to the public.

ADDRESSES: The meeting will be held virtually via webinar. Please note admittance instructions under the SUPPLEMENTARY INFORMATION section of this notice.

FOR FURTHER INFORMATION CONTACT: Robert Fangmeyer, Director, Baldrige Performance Excellence Program, National Institute of Standards and Technology, 100 Bureau Drive, Mail Stop 1020, Gaithersburg, Maryland 20899-1020, phone: 301-975-2361, email robert.fangmeyer@nist.gov.

SUPPLEMENTARY INFORMATION:

Authority: 15 U.S.C. 3711a(d)(1); 15 U.S.C. 3711a(d)(2)(B); and the Federal Advisory Committee Act, as amended, 5 U.S.C. 1000 et seq.

Pursuant to the Federal Advisory Committee Act, as amended, 5 U.S.C. 1000 et seq., notice is hereby given that the Board of Overseers will meet in open session on Wednesday, June 25, 2025, from 11 a.m. eastern time until 4 p.m. eastern time. The Board is composed of approximately six members preeminent in the field of organizational performance excellence and appointed by the Secretary of Commerce, makes an annual report on the results of Award activities to the Director of the National Institute of Standards and Technology (NIST), along with its recommendations for improvement of the Award process. The Board consists and includes members familiar with the quality, performance improvement operations, and competitiveness issues of a balanced representation from U.S. service, manufacturing, nonprofit, education, and healthcare industries.

The purpose of this meeting is to welcome and introduce the Board and to review and discuss the work of the Baldrige Performance Excellence Program (“Program”). The agenda will include the Baldrige Program Update, Baldrige Foundation Update, Judges Panel of the Malcolm Baldrige National Quality Award Update (“Judges Panel”) Update, Ethics Review for both the Judges Panel and the Board, Alliance for Performance Excellence Update, Communities of Excellence Update, and New Business/Public Comment. The agenda may change to accommodate the Board of Overseers business. The final agenda will be posted on the NIST Baldrige Performance Excellence website at https://www.nist.gov/baldrige/community/overseers.cfm. The meeting is open to the public.

Individuals and representatives of organizations who would like to offer verbal comments and suggestions related to the Board's affairs are invited to request a place on the agenda. Approximately one half hour will be reserved for public comments during the June 25th meeting, and speaking times will be assigned on a first-come, first-served basis. The amount of time per speaker will be determined by the number of requests received but is likely to be about three minutes each. The exact time for public comments will be included in the final agenda that will be posted on the Baldrige Performance Excellence Program website at https://www.nist.gov/baldrige/community/overseers.cfm. Questions from the public will not be considered during this period. Requests must be submitted by email to Robyn Decker at robyn@nist.gov and must be received by 4 p.m. eastern time, June 20, 2025, to be considered. Speakers who wish to expand upon their oral statements, those who had wished to speak but could not be accommodated on the agenda, and those who were unable to attend in person are invited to submit written statements by email to robyn@nist.gov. Written statements may be submitted at any time.

Admittance instructions: All participants will be attending virtually via webinar and need to pre-register to be admitted. Please contact Mrs. Robyn Decker by email at robyn@nist.gov; Mailing Address: NIST c/o Robyn Decker 100 Bureau Drive, MS 1020 Gaithersburg, MD 20899; or 301-975-2361, please provide her with your name, email, and phone number; and she will provide you with instructions for webinar admittance. All requests to attend must be received by 4 p.m. eastern time, June 17, 2025.

Special Accommodations: Individuals requiring special accommodations to access the public meeting should contact robyn@nist.gov, no later than June 17, 2025, so that appropriate arrangements can be made.

Alicia Chambers,
NIST Executive Secretariat.

[FR Doc. 2025-10400 Filed 6-6-25; 8:45 am]

BILLING CODE 3510-13-P